DEPARTMENT OF ENERGY

Federal Energy Regulatory Commission

Combined Notice of Filings No. 1

December 1, 2009.

Take notice that the Commission has received the following Natural Gas Pipeline Rate and Refund Report filings:

Docket Numbers: RP10-179-000.

Applicants: Algonquin Gas Transmission, LLC.

Description: Algonquin Gas Transmission, LLC submits Service Agreements with deviations identified as immaterial in its 10/13/09 filing.

Filed Date: 11/24/2009.

Accession Number: 20091127-0215.

Comment Date: 5 p.m. Eastern Time on Monday, December 07, 2009.

Docket Numbers: RP10-185-000.

Applicants: Quest Pipelines (KPC).

Description: Quest Pipeline (KPC) submits Interruptible Revenue Crediting Report.

Filed Date: 11/30/2009.

Accession Number: 20091130-0041.

Comment Date: 5 p.m. Eastern Time on Monday, December 14, 2009.

Docket Numbers: RP10-186-000.

Applicants: Northern Natural Gas Company.

Description: Northern Natural Gas Company submits Fifty-Sixth Revised Sheet No 66A et al. to FERC Gas Tariff, Fifth Revised Volume No. 1.

Filed Date: 11/30/2009.

Accession Number: 20091130-0042.

Comment Date: 5 p.m. Eastern Time on Monday, December 14, 2009.

Docket Numbers: RP10-187-000.

Applicants: Iroquois Gas Transmission System, L.P.

Description: Iroquois Gas Transmission System, LP submits Third Revised Sheet No 6F to FERC Gas Tariff, First Revised Volume No. 1.

Filed Date: 11/30/2009.

Accession Number: 20091130-0043.

Comment Date: 5 p.m. Eastern Time on Monday, December 14, 2009.

Docket Numbers: RP10-188-000.

Applicants: Arlington Storage Company, LLC.

Description: Arlington Storage Company, LLC submits First Revised Sheet No 1 et al. to FERC Gas Tariff, First Revised Volume No 1.

Filed Date: 11/25/2009.

Accession Number: 20091130-0049.

Comment Date: 5 p.m. Eastern Time on Monday, December 07, 2009.

Docket Numbers: RP10-189-000.

Applicants: Southern Star Central Gas Pipeline, Inc.

Description: Southern Star Central Gas Pipeline, Inc submits the Annual Fuel Filing, Tenth Revised Sheet No. 12 et al. to FERC Gas Tariff, Original Volume No. 1.

Filed Date: 11/30/2009

Accession Number: 20091130-0050.

Comment Date: 5 p.m. Eastern Time on Monday, December 14, 2009.

Docket Numbers: RP10-190-000.

Applicants: National Fuel Gas Supply Corporation.

Description: National Fuel Gas Supply Corporation submits Thirteenth Revised Sheet No 43 to FERC Gas Tariff, Fourth Revised Volume No. 1.

Filed Date: 11/30/2009.

Accession Number: 20091130-0044.

Comment Date: 5 p.m. Eastern Time on Monday, December 14, 2009.

Docket Numbers: RP10-191-000.

Applicants: National Fuel Gas Supply Corporation.

Description: National Fuel Gas Supply Corporation submits Annual Transportation and Storage Cost Adjustment.

Filed Date: 11/30/2009.

Accession Number: 20091130-0045.

Comment Date: 5 p.m. Eastern Time on Monday, December 14, 2009.

Docket Numbers: RP10-192-000.

Applicants: T.W. Phillips Pipeline Corporation.

Description: T.W. Phillips Pipeline Corp submits a negotiated transportation rate agreement with Bionol Clearfield, LLC.

Filed Date: 11/30/2009.

Accession Number: 20091130-0046.

Comment Date: 5 p.m. Eastern Time on Monday, December 14, 2009.

Docket Numbers: RP10-193-000.

Applicants: CenterPoint Energy Gas Transmission Co.

Description: CenterPoint Energy Gas Transmission Co submits Twenty-Second Revised Sheet No. 17 et al. to FERC Gas Tariff, Sixth Revised Volume No. 1.

Filed Date: 11/30/2009.

Accession Number: 20091130-0047.

Comment Date: 5 p.m. Eastern Time on Monday, December 14, 2009.

Docket Numbers: RP10-194-000.

Applicants: Equitrans, L.P.

Description: Equitrans, LP submits Original Tariff Sheet No. 318 et al. to FERC Gas Tariff, Original Volume No. 1.

Filed Date: 11/30/2009.

Accession Number: 20091130-0048.

Comment Date: 5 p.m. Eastern Time on Monday, December 14, 2009.

Docket Numbers: RP10-195-000.

Applicants: Gas Transmission Northwest Corporation.

Description: Report of Gas Transmission Northwest Corporation.

Filed Date: 11/30/2009.

Accession Number: 20091130-5129.

Comment Date: 5 p.m. Eastern Time on Monday, December 14, 2009.

Docket Numbers: RP10-196-000.

Applicants: Colorado Interstate Gas Company.

Description: Colorado Interstate Gas Company Lost Unaccounted-For and other Fuel Gas Reimbursement Percentage Filing.

Filed Date: 11/30/2009.

Accession Number: 20091130-5150.

Comment Date: 5 p.m. Eastern Time on Monday, December 14, 2009.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-29087 Filed 12-4-09; 8:45 am]

BILLING CODE 6717-01-P